DEPARTMENT OF LABOR

Employment and Training Administration

[TA-W-62,053]

Sunrise Medical, Incorporated Devilbiss Healthcare Including On-Site Leased Workers of Kelly Services Somerset, PA; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on October 10, 2007, applicable to workers of Sunrise Medical, Incorporated, Devilbiss Healthcare, Somerset, Pennsylvania. The notice will be published soon in the Federal Register.

At the request of the State agency, the Department reviewed the certification for workers of the subject firm. The workers are engaged in the production of respiratory care products, such as compressor nebulizers, oxygen concentrators and aspirators.

The review of the investigation record shows that the Department inadvertently excluded from the certification on-site leased workers from Kelly Services. Accordingly, the Department is amending this certification to include on-site leased workers from Kelly Services.

The amended notice applicable to TA-W-62,053 is hereby issued as follows:

All workers of Sunrise Medical, Incorporated, Devilbiss Healthcare, including on-site leased workers of Kelly Services, Somerset, Pennsylvania, who became totally or partially separated from employment on or after August 27, 2006, through October 10, 2009, are eligible to apply for adjustment assistance under Section 223 of the Trade Act of 1974, and are also eligible to apply for alternative trade adjustment assistance under Section 246 of the Trade Act of 1974.

Signed at Washington, DC, this 17th day of October 2007.
Linda G. Poole,
Certifying Officer, Division of Trade Adjustment Assistance.

[FR Doc. E7-20727 Filed 10-19-07; 8:45 am]

BILLING CODE 4510-FN-P